DEPARTMENT OF AGRICULTURE

Cooperative State Research, Education, and Extension Service

Solicitation of Input From Stakeholders Regarding the Healthy Urban Food Enterprise Development Center Program

AGENCY: Cooperative State Research, Education, and Extension Service, USDA.

ACTION: Request for stakeholder input; correction.

SUMMARY: The Cooperative State Research, Education, and Extension Service published a document in the Federal Register on March 3, 2009, concerning request for stakeholder input regarding the Healthy Urban Food Enterprise Development Center Program. The document contained an incorrect e-mail address.

FOR FURTHER INFORMATION CONTACT: Elizabeth Tuckermanty, 202-205-0241.

Correction

In the Federal Register of March 3, 2009, in FR Doc E9-4384, on page 9212, in the second and third columns, correct the ADDRESSES and FOR FURTHER INFORMATION CONTACT captions to read:

ADDRESSES: You may submit comments, identified by CSREES-2008-0005, by any of the following methods: Federal eRulemaking Portal: http://www.regulations.gov. Follow the instructions for submitting comments.

E-mail: etuckermanty@csrees.usda.gov. Include CSREES-2008-0005 in the subject line of the message.

Fax: (202) 401-1782.

Mail: Paper, disk or CD-ROM submissions should be submitted to: Liz Tuckermanty; Competitive Program (CP) Unit; Cooperative State Research, Education, and Extension Service; U.S. Department of Agriculture; Mail Stop 2201; 1400 Independence Avenue, SW.; Washington, DC 20250-2201.

Hand Delivery/Courier: Liz Tuckermanty; Competitive Programs (CP) Unit; Cooperative State Research, Education, and Extension Service; U.S. Department of Agriculture; Room 2340; Waterfront Centre; 800 9th Street, SW.; Washington, DC 20024.

Instructions: All submissions received must include the title “The Center” and CSREES-2008-0005. All comments received will be posted to http://www.regulations.gov, including any personal information provided.

FOR FURTHER INFORMATION CONTACT: Dr. Liz Tuckermanty, (202) 205-0241 (phone), (202) 401-1782 (fax), or etuckermanty@csrees.usda.gov.

Dated: March 5, 2009.
Colien Hefferan,
Administrator, Cooperative State Research, Education, and Extension Service.

[FR Doc. E9-5118 Filed 3-10-09; 8:45 am]

BILLING CODE 3410-22-P